DEPARTMENT OF THE INTERIOR

Bureau of Land Management

[LLES962000 L14200000.B0000 15X]

Eastern States: Filing of Plats of Survey

AGENCY: Bureau of Land Management, Interior.

ACTION: Notice of filing of plats of survey; Minnesota.

SUMMARY: The Bureau of Land Management (BLM) will file the plats of survey of the lands described below in the BLM-Eastern States Office, Washington, DC, 30 calendar days from the date of publication in the Federal Register.

FOR FURTHER INFORMATION CONTACT: Bureau of Land Management, Eastern States Office, 20 M Street SE., Washington DC, 20003. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Survey in the Fifth Principal Meridian requested by the Bureau of Indian Affairs. Surveys in the Fourth Principal Meridian were requested by the U.S. Forest Service.

The lands surveyed are:

Fourth Principal Meridian, Minnesota

T. 64 N., R. 11 W.

The plat of survey represents the dependent resurvey of the south boundary of Township 64 North, Range 11 West, of the Fourth Principal Meridian, in the State of Minnesota, and was accepted September 28, 2015.

Fourth Principal Meridian, Minnesota

T. 64 N., R. 10 and 11 W.

The plat of survey represents the dependent resurvey of a portion of the range line between Townships 63 North, Ranges 10 and 11 West, and a portion of the south exterior boundary of Township 64 North, Range 10 West, of the Fourth Principal Meridian, in the State of Minnesota, and was accepted September 28, 2015.

Fifth Principal Meridian, Minnesota

T. 144 N., R. 39 W. and T. 143 N., R. 39 W.

The plat of survey represents the corrective dependent resurvey of a portion of the subdivisional lines and the corrective survey of the subdivision of sections 22-27, and 36, Township 144 North, Range 39 West, and the corrective dependent resurvey of a portion of the east boundary and the corrective survey of the subdivision of section 1, Township 143 North, Range 39 West, of the Fifth Principal Meridian, in the State of Minnesota, and was accepted September 28, 2015.

We will place a copy of the plat we described in the open files. It will be available to the public as a matter of information.

If BLM receives a protest against this survey, as shown on the plat, prior to the date of the official filing, we will stay the filing pending our consideration of the protest.

We will not officially file the plat until the day after we have accepted or dismissed all protests and they have become final, including decisions on appeals.

Dated: October 7, 2015.
Dominica VanKoten,
Chief Cadastral Surveyor.

[FR Doc. 2015-27126 Filed 10-23-15; 8:45 am]

BILLING CODE 4310-GJ-P